FEDERAL COMMUNICATIONS COMMISSION

47 CFR Parts 1, 27, 74, 90 and 101

[WT Docket No. 01-319; DA 04-2591]

Review of Quiet Zones Application Procedures

AGENCY: Federal Communications Commission.

ACTION: Final rule; correction.

SUMMARY: The Federal Communications Commission published in the Federal Register of June 7, 2004, a document in the Quiet Zones proceeding, WT Docket No. 01-319, which incorrectly indicated that a new or modified information collection exists that requires approval by the Office of Management and Budget (“OMB”), and contained an incorrect DATES section. This document corrects the effective date.

DATES: Effective June 7, 2004.

FOR FURTHER INFORMATION CONTACT: Linda C. Chang, Federal Communications Commission, Wireless Telecommunications Bureau, 445 12th St., Washington, DC 20554, (202) 418-0620.

SUPPLEMENTARY INFORMATION: The FCC published a document in the Federal Register of June 7, 2004, (69 FR 17946) regarding the adoption of changes to rules relating to areas known as “Quiet Zones.” In FR Doc. 04-7799, published in the Federal Register of June 7, 2004, the document incorrectly indicated that a new or modified information collection exists that requires approval by the Office of Management and Budget (“OMB”), and contained an incorrect DATES section. This document corrects the effective date.

Dated: September 9, 2004.
Linda C. Chang,
Associate Division Chief, Mobility Division.

[FR Doc. 04-20785 Filed 9-20-04; 8:45 am]

BILLING CODE 6712-01-P